FEDERAL ELECTION COMMISSION

Sunshine Act Notice

DATE and TIME: Thursday, March 11, 2010, at 10 a.m.

PLACE: 999 E Street, NW., Washington, DC (Ninth floor).

STATUS: This meeting will be open to the public.

ITEMS TO BE DISCUSSED: Correction and Approval of Minutes.

Draft Advisory Opinion 2010-02: West Virginia Republican Party, Inc. by its chairman, Douglas E. McKinney, M.D.

EMILY's List: Final Rules and Explanation & Justification.

Management and Administrative Matters.

Individuals who plan to attend and require special assistance, such as sign language interpretation or other reasonable accommodation, should contact Darlene Harris, Acting Commission Secretary, at (202) 694-1040, at least 72 hours prior to the hearing date.

PERSON TO CONTACT FOR INFORMATION: Judith Ingram, Press Officer, Telephone: (202) 694-1220.

Darlene Harris,
Acting Secretary of the Commission.

[FR Doc. 2010-5037 Filed 3-10-10; 8:45 am]

BILLING CODE 6715-01-M